DEPARTMENT OF HEALTH AND HUMAN SERVICES

Administration for Children and Families

Tribal Consultation Meetings

AGENCY: Administration for Children and Families' Office of Head Start (OHS).

ACTION: Notice of meetings.

SUMMARY: Pursuant to the Improving Head Start for School Readiness Act of 2007, Public Law 110-134, notice is hereby given of a one-day Tribal Consultation Session to be held between the Department of Health and Human Services, Administration for Children and Families, Office of Head Start leadership and the leadership of Tribal Governments operating Head Start (including Early Head Start) programs. The purpose of this Consultation Session is to discuss ways to better meet the needs of American Indian and Alaska Native children and their families, taking into consideration funding allocations, distribution formulas, and other issues affecting the delivery of Head Start services in their geographic locations [42 U.S.C. 9835, Section 640(l)(4)].

DATES: February 15, 2012.

ADDRESSES: 2012 Office of Head Start Tribal Consultation Session will be held at the following location:

Wednesday, February 15, 2012—Petoskey, Michigan—Odawa Hotel, 1444 US 131 South, Petoskey, MI 49770.

FOR FURTHER INFORMATION CONTACT: Camille Loya, Acting Regional Program Manager Region XI, email Camille.Loya@acf.hhs.gov or phone (202) 401-5964. Additional information and online meeting registration is available at http://www.headstartresourcecenter.org.

SUPPLEMENTARY INFORMATION: The Department of Health and Human Services (HHS) announces Office of Head Start (OHS) Tribal Consultations with leaders of Tribal Governments operating Head Start (including Early Head Start) programs for each of the nine geographic regions of Head Start where AI/AN programs are located. We are convening the OHS Tribal Consultations in conjunction with other Tribal Leader events in order to minimize the financial and travel burden for participants. The session in Petoskey, Michigan, is being held in conjunction with the U.S. Department of Health and Human Services and Midwest Alliance of Sovereign Tribes 2012 Midwest Tribal Consultation Session. We will schedule additional consultations around the country for later in the year.

The agenda for the scheduled OHS Tribal Consultation will be organized around the statutory purposes of Head Start Tribal Consultations related to meeting the needs of American Indian and Alaska Native children and families, taking into consideration funding allocations, distribution formulas, and other issues affecting the delivery of Head Start services in their geographic locations. In addition, OHS will share actions taken and in progress to address the issues and concerns raised in 2011 OHS Tribal Consultations.

Tribal leaders and designated representatives interested in submitting written testimony or proposing specific agenda topics for this Consultation Session should contact Camille Loya at Camille.Loya@acf.hhs.gov. Proposals must be submitted at least three days in advance of the session and should include a brief description of the topic area, along with the name and contact information of the suggested presenter.

The Consultation Session will be conducted with elected or appointed leaders of Tribal Governments and their designated representatives [42 U.S.C. 9835, Section 640(l)(4)(A)]. Designees must have a letter from the Tribal Government authorizing them to represent the tribe. The letter should be submitted at least three days in advance of the Consultation Session to Camille Loya at (202) 205-9721 (fax). Other representatives of tribal organizations and Native nonprofit organizations are welcome to attend as observers.

A detailed report of each Consultation Session will be prepared and made available within 90 days of the Consultation Session to all Tribal Governments receiving funds for Head Start and Early Head Start programs. Tribes wishing to submit written testimony for the report should send testimony to Camille Loya at Camille.Loya@acf.hhs.gov either prior to the Consultation Session or within 30 days after the meeting.

Oral testimony and comments from the Consultation Session will be summarized in the report without attribution, along with topics of concern and recommendations. Hotel and logistical information for all Consultation Sessions has been sent to tribal leaders via email and posted on the Head Start Resource Center Web site at http://www.headstartresourcecenter.org.

Dated: January 24, 2012.
Yvette Sanchez Fuentes,
Director, Office of Head Start.

[FR Doc. 2012-2166 Filed 1-31-12; 8:45 am]

BILLING CODE 4184-40-P